DEPARTMENT OF COMMERCE

National Oceanic and Atmospheric Administration

50 CFR Part 679

[Docket No. 991207325-0063-02; I.D. 100699A]

RIN 0648-AJ52

Fisheries in the Exclusive Economic Zone Off Alaska; A Cost Recovery Program for the Individual Fishing Quota Program; Correction

AGENCY: National Marine Fisheries Service (NMFS), National Oceanic and Atmospheric Administration (NOAA), Commerce.

ACTION: Final rule; correction.

SUMMARY: This document corrects regulatory text in the final rule that implements a cost recovery program for the Individual Fishing Quota (IFQ) program for fixed gear halibut and sablefish fisheries in waters in and off of Alaska, which was published in the Federal Register on March 20, 2000.

DATES: Effective March 15, 2000.

FOR FURTHER INFORMATION CONTACT: Patsy A. Bearden, 907-586-7008.

SUPPLEMENTARY INFORMATION:

Background

A final rule was published in the Federal Register on March 20, 2000 (65 FR 14919), to implement the IFQ cost recovery program. In the regulatory text portion of the final rule, the procedure described for payment of IFQ fees incorrectly included notarizing the fee payment section.

Need for Correction

As published, the final rule contained an error that must be corrected:

List of Subjects in 50 CFR Part 679

Alaska, Fisheries, Reporting and recordkeeping requirements.

PART 679—FISHERIES OF THE EXCLUSIVE ECONOMIC ZONE OFF ALASKA

Accordingly, 50 CFR part 679 is corrected by making the following correcting amendment:

1. The authority for part 679 continues to read as follows:

Authority: 16 U.S.C. 773 et seq., 1801 et seq., and 3631 et seq.

§ 679.5 [Corrected]

2. In § 679.5, paragraph (l)(7)(ii)(C)(4)(i) is correctly revised to read as follows:

* * * * *

(l) * * *

(7) * * *

(ii) * * *

(C) * * *

(4) Fee payment and certification section-(i) Information required. An IFQ permit holder with an IFQ landing must provide his or her NMFS person identification number and must sign and date the Fee Payment section and record the following: his or her printed name; the total annual fee amount as calculated and recorded on the Fee Calculation page; the total of any pre-payments submitted to NMFS that apply to the total annual fee amount; the remaining balance fee; and the enclosed payment amount.

* * * * *

Dated: February 27, 2001.
William T. Hogarth,
Deputy Asst. Administrator for Fisheries, National Marine Fisheries Service.

[FR Doc. 01-5559 Filed 3-6-01; 8:45 am]

BILLING CODE 3510-22-S